DEPARTMENT OF LABOR

Office of the Workers' Compensation Programs

[OMB Control No. 1240-0013]

Proposed Extension of a Currently Approved Information Collection: Claim for Compensation by Dependents Information Reports

AGENCY: Office of Workers' Compensation Programs, Division of Federal Employees' Compensation, (OWCP/DFEC) Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Workers' Compensation Programs, Division of Federal Employees' Compensation, (OWCP/DFEC) is soliciting comments on the information collection for the Claim for Compensation by Dependents Information Reports, Form CA-5 and CA-5b, Form CA-1031, Form CA-1074, and the Form Letter “Compensation Due at Death”.

DATES: All comments must be received on or before April 6, 2026.

ADDRESSES: You may submit comment as follows. Please note that late, untimely filed comments will not be considered.

Electronic Submissions: Submit electronic comments in the following way:

• Federal eRulemaking Portal: https://www.regulations.gov. Follow the instructions for submitting comments for WCPO-2026-0034. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP/DFEC, Office of Workers' Compensation Programs, Division of Federal Employees' Compensation, U.S. Department of Labor, 200 Constitution Ave. NW, Room S-3323, Washington, DC 20210.

• OWCP/DFEC will post your comment as well as any attachments, except for information submitted and marked as confidential, in the docket at https://www.regulations.gov.

FOR FURTHER INFORMATION CONTACT: Anjanette Suggs, Office of Workers' Compensation Programs (OWCP) at suggs.anjanette@dol.gov @dol.gov (email); (202) 354-9660 (phone).

SUPPLEMENTARY INFORMATION:

I. Background

The Office of Workers' Compensation Programs (OWCP) is the federal agency responsible for determining entitlement to benefits under the Federal Employees' Compensation Act. These forms are reviewed to verify dependents/survivors. Benefit payments are then initiated, continued, adjusted, or terminated accordingly. Without the information requested by the forms, determinations regarding entitlement to benefits could not be made, and OWCP could not ensure that compensation was paid to the correct individuals at the correct rate. Failure to verify dependent information could result in significant overpayment, which would be very difficult to recover.

The forms included in this package are used to request information for entitlement to claim benefits under the Federal Employees' Compensation Act from federal employees/their dependents/survivors; to prove continued eligibility for benefits; to show entitlement to remaining compensation payments of a deceased employee; and to show dependency. The following Codes of Federal Regulations for this OMB apply to Claims for Compensation under the Federal Employees' Compensation Act, as amended: 20 CFR 10.7, 10.105, 10.410, 10.413, 10.417, 10.535, 10.537. See 5 U.S.C. 8110, 8124, 8145, and 8149.

See: https://www.ecfr.gov/current/title-20/part-10.

See: https://www.dol.gov/owcp/dfec/regs/statutes/feca.htm.

II. Desired Focus of Comments

OWCP/DFEC is soliciting comments concerning the proposed information collection related to the Request for Employment Information. OWCP/DFEC is particularly interested in comments that:

• Evaluate whether the collection of information is necessary for the proper performance of the functions of the Agency, including whether the information has practical utility;

• Evaluate the accuracy of OWCP/DFEC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov and at DOL-OWCP/DFEC located at 200 Constitution Ave. NW, Room S-3323, Washington, DC 20210. Questions about the information collection requirements may be directed to the person listed in the FOR FURTHER INFORMATION section of this notice.

III. Current Actions

This information collection request concerns the Claim for Compensation by Dependents Information Reports, Form CA-5 and CA-5b, Form CA-1031, Form CA-1074, and the Form Letter “Compensation Due at Death”. OWCP/DFEC has updated the data with respect to the number of respondents, responses, burden hours, and burden costs supporting this information collection request from the previous information collection request.

Type of Review: Extension, without change of a currently approved information collection.

Agency: Office of Workers' Compensation Programs, Division of Federal Employees' Compensation, OWCP/DFEC.

OMB Number: 1240-0013.

Affected Public: Business or other for profits.

Number of Respondents: 1241.

Frequency: On Occasion.

Number of Responses: 1,241.

Annual Burden Hours: 1,063.

Annual Respondent or Recordkeeper Cost: $730.00.

OWCP/DFEC 1240-0013: OWCP/DFEC Claim for Compensation by a Dependent Information Reports.

Comments submitted in response to this notice will be summarized in the request for Office of Management and Budget approval of the proposed information collection request; they will become a matter of public record and will be available at https://www.reginfo.gov.

Anjanette Suggs,
Certifying Officer.

[FR Doc. 2026-02151 Filed 2-2-26; 8:45 am]

BILLING CODE 4510-CH-P